DEPARTMENT OF COMMERCE

National Institute of Standards and Technology

Notice of Government Owned Inventions Available for Licensing

AGENCY: National Institute of Standards and Technology, Commerce.

ACTION: Notice of Government owned inventions available for licensing.

SUMMARY: The inventions listed below are owned in whole or in part by the U.S. Government, as represented by the Department of Commerce. The inventions are available for licensing in accordance with 35 U.S.C. 207 and 37 CFR part 404 to achieve expeditious commercialization of results of federally funded research and development.

FOR FURTHER INFORMATION CONTACT: Technical and licensing information on these inventions may be obtained by writing to: National Institute of Standards and Technology, Office of Technology Partnerships, Attn: Mary Clague, Building 820, Room 213, Gaithersburg, MD 20899. Information is also available via telephone: 301-975-4188, fax 301-869-2751, or e-mail: mary.clague@nist.gov. Any request for information should include the NIST Docket number and title for the invention as indicated below.

SUPPLEMENTARY INFORMATION: NIST may enter into a Cooperative Research and Development Agreement (“CRADA”) with the licensee to perform further research on the invention for purposes of commercialization. The inventions available for licensing are:

[NIST Docket Number: 01-022US]

Title: Miniature Frequency Standard Based nn All-Optical Excitation and a Micromachined Containment Vessel.

Abstract: This invention is jointly owned by NIST and the University of Colorado. A microwave frequency standard is provided which allows for miniaturization down to length scales of order one micron, comprising a modulated light field originating from a laser that illuminates a collection of quantum absorbers contained in a micro-machined cell. The frequency standard of the present invention can be based on all-optical excitation techniques such as coherent population trapping (CPT) and stimulated Raman scattering or on conventional microwave-excited designs. In a CPT-based embodiment, a photodetector detects a change in transmitted power through the cell and that is used to stabilize an external oscillator to correspond to the absorber's transition frequency by locking the laser modulation frequency to the transition frequency. In a stimulated Raman scattering (SRS) embodiment, a high-speed photodetector detects a laser field transmitted through the cell beating with a second field originating in the cell. Both the locked laser modulation frequency and the beat frequency are very stable as they are referenced directly to the atomic transition.

[NIST Docket Number: 02-002US]

Title: Low Cost Portable Refreshable Tactile Graphic Display.

Abstract: Pressure-based refreshable scanning tactile graphic display apparatus and methods are disclosed for localized sensory stimulation. The apparatus include a display array having stimulus points embedded in a matrix, an energy source applied at the stimulus points through a modulator, a control unit, and a position sensing and feedback unit or units (such as a mouse-type device or data glove, for example). The energy source is preferably stored and pressurized fluid with application to selected stimulus points (pins, for example) preferably directed at a microvalve array under the control of a computer-based control unit.

[NIST Docket Number: 03-006US]

Title: Optical Probes for Chemical and Biochemical Detection in Liquids.

Abstract: A class of optical sensors is provided for chemical and biochemical detection in liquids in which the sensing element is a low-loss optical resonator that requires or benefits from precision optical contacting in the fabrication process. Novel resonator designs can be created by contacting multiple components to form integral sensing elements with low-loss mechanically strong bonds between components. Stigmatic, weakly stigmatic and astigmatic Gaussian mode resonators and whispering gallery mode resonators are described which can be immersed in a liquid to detect chemical species through a change in optical properties. High-reflectivity coated surfaces are used to permit direct excitation of resonator modes by a propagating optical beam, while total internal reflection surfaces provide an evanescent wave for sampling the optical properties of the ambient medium. Resonators are described with vicinal input and output ports, which facilitate the construction of compact, distal probes where input and output beams are introduced and accessed in close proximity.

[NIST Docket Number: 03-009US]

Title: Spectrally Tunable Solid-state Light Source.

Abstract: A radiometrically stable, spectrally tunable, solid-state source has been developed. The radiometric outputs of individually controlled, narrow bandwidth, solid-state sources with different spectral distributions are combined in an integrating sphere to approximate any desired spectral distribution. Utilizing a sufficient number of independent solid-state source channels, the source can be tuned to approximate the spectral distribution of any desired source distribution. A stable reference spectroradiometer that is integrated into the solid-state light source measures the spectral radiance and is used to adjust the output of the individual channels.

[NIST Docket Number: 04-003US]

Title: Controlled Vesicle Self-Assembly in Continuous Two Phase Flow Microfluidic Channels.

Abstract: It shows the formation of liposomes that encapsulate reagents in a continuous 2-phase flow planar microfluidic network with precision control of size, over the range of 100 nanometers to 300 nanomaters, by control of liquid flow rates. By creating a solvent-aqueous interfacial region in a microfluidic format that is homogenous and controllable on the length scale of a liposome, the fine control of liposome size and polydisperisity is facilitated.

Dated: March 25, 2005.
Hratch G. Semerjian,
Acting Director.

[FR Doc. 05-6480 Filed 3-31-05; 8:45 am]

BILLING CODE 3510-13-P